DEPARTMENT OF HOUSING AND URBAN DEVELOPMENT

[Docket No. FR-7041-N-06]

60-Day Notice of Proposed Information Collection: Moving To Work Stepped and Tiered Rent Demonstration Evaluation

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 24, 2022.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Moving to Work (MTW) Cohort 2 Stepped and Tiered Rent Demonstration Evaluation.

OMB Approval Number: Pending.

Type of Request: New.

Form Number: N/A.

Description of the need for the information and proposed use: HUD has selected 10 Public Housing Agencies (PHAs) to participate in the second cohort of the Moving to Work (MTW) Expansion, Stepped and Tiered Rent Demonstration (STRD). These PHAs will implement an alternative rent policy (a stepped rent or tiered rent) that is intended to reduce PHA administrative burden and increase self-sufficiency of assisted households. Five PHAs will implement a stepped rent and five PHAs will implement a tiered rent. HUD's Office of Policy Development and Research (PD&R) will evaluate the impacts of those alternative rent policies, using a randomized controlled trial. The evaluation will rely on data from a variety of sources, including new information collection efforts proposed in this Notice. HUD has contracted with MDRC to conduct the first phase of the evaluation, including random assignment, baseline data collection, and monitoring PHA implementation.

Within the 10 participating PHAs, eligible households will be randomly assigned to have their rent calculated under the new rules (stepped/tiered rent) or old rules (the Brooke rent, typically 30% of household income). Eligible households will be non-elderly, non-disabled participants in the public housing and housing choice voucher program. Prior to random assignment, each household will be asked to complete a baseline information form (BIF) and provide informed consent to authorize HUD's evaluator to use their data for the evaluation. The BIF will provide important information not otherwise available from HUD's administrative data, such as whether the household has significant barriers to employment. The BIF will average approximately 7 minutes long.

MDRC will also conduct interviews with staff from participating PHAs, to better understand their experience implementing the new rent policies. For the first phase of the evaluation, MDRC is expected to conduct two rounds of staff interviews with each PHA. This collection request focuses on the first of the two rounds of staff data collection. During the first round, MDRC expects to interview up to ten staff per PHA (reflecting a mix of executive management staff, public housing and HCV directors, and public housing and HCV specialists). The mode will be a mix of one-on-one interviews and group interviews, with small groups of 2-3 staff performing similar roles.

Respondents: Recipients of HUD housing assistance participating in the Stepped and Tiered Rent Demonstration; Staff with PHAs participating in the Demonstration.

Estimated Number of Respondents: Up to 25,000 study participants who will complete the baseline survey; 100 PHA staff interviewees.

Frequency of Response: Once (BIF); Once for staff included in Round 1 staff interviews.

Average Hours per Response: The BIF will take 7 minutes per response (.12 hour). PHA staff interviews will take one hour, on average.

Total Estimated Burdens
Information collection | Number of respondents | Frequency of response | Responses per annum | Burden hour per response | Annual burden hours | Hourly cost per response | Annual cost
Baseline Information Form (household survey) | 25,000 | 1 | 25,000 | .12 | 3,000 | $9.43 | $14,145 (12,500 Employed sample members * $9.43 * 0.12 hour).
PHA staff interviews | 100 | 1 | 100 | 1 | 100 | 34.64 | $3,464 (100 interviews * $34.64 * 1 hr).
Total | 25,100 |  |  |  | 3,100 |  | $17,609

For the Baseline Information Form Hourly Cost Per Response, Households in the STRD will range widely in employment position and earnings. We have estimated the average prevailing minimum hourly wage across the ten STRD sites at $9.43, and further assume that about 50 percent of the participants to be employed at the time of survey response.

For the PHA staff interviews Hourly Cost Per Response, for program staff participating in interviews, the estimate uses the median hourly wages of selected occupations (classified by Standard Occupational Classification (SOC) codes) was sourced from the Occupational Employment Statistics from the U.S. Department of Labor's Bureau of Labor Statistics.

Potentially relevant occupations and their median hourly wages are:

Occupation | SOC code | Mean hourly wage rate
Community and Social Service Specialist | 21-1099 | $25.64
Social/community Service Manager | 11-9151 | 44.24
Chief Executives | 11-1011 | 59.86
Source: Occupational Employment Statistics, accessed online September 29, 2021 at http://www.bls.gov/oes/current/oes_stru.htm.
To estimate cost burden to program staff respondents, we use an average of the occupations listed weighted by expected respondent distribution for those listed above, or $34.64/hr.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

The General Deputy Assistant Secretary for Policy Development and Research,

Todd M. Richardson, having reviewed and approved this document, is delegating the authority to electronically sign this document to submitter, Chaneeka Dessesow, who is the Federal Register Liaison for HUD, for purposes of publication in the Federal Register.

Chaneeka Dessesow,
Federal Register Liaison for the Department of Housing and Urban Development.

[FR Doc. 2021-25655 Filed 11-23-21; 8:45 am]

BILLING CODE 4210-67-P